DEPARTMENT OF TRANSPORTATION

Federal Aviation Administration

Receipt of Noise Compatibility Program Update and Request for Review; Westfield-Barnes Regional Airport (BAF), Westfield, Massachusetts

AGENCY: Federal Aviation Administration, Department of Transportation (DOT).

SUMMARY: The Federal Aviation Administration (FAA) announces that it is reviewing a proposed Noise Compatibility Program (NCP) Update submitted by the City of Westfield, Massachusetts, through its Aviation Department, for Westfield-Barnes Regional Airport and has found it in compliance with applicable requirements. This NCP Update was submitted subsequent to a determination by the FAA that the associated Noise Exposure Maps (NEMs) for the Westfield-Barnes Regional Airport, were prepared in compliance with applicable requirements. The NCP Update will be approved or disapproved on or before November 22, 2023. Finally, this notice announces that the proposed NCP Update will be available for public review and comment for 60 days from the publication date of this notice.

DATES: The effective start date of the FAA's 180-day review period for the associated NCP Update is May 26, 2023. The FAA must issue an approval or disapproval of the NCP Update on or before November 22, 2023. The public review and comment period ends 60 days from the publication date of this notice.

FOR FURTHER INFORMATION CONTACT: Cheryl Quaine, Federal Aviation Administration, New England Regional Office Environmental Protection Specialist, Airports Division, Federal Aviation Administration, 1200 District Avenue, Burlington, Massachusetts, 01803. Phone number: 781-238-7613. Comments on the proposed NCP Update should also be submitted to the above office.

SUPPLEMENTARY INFORMATION: This notice announces that the FAA is reviewing a proposed NCP Update for the Westfield-Barnes Regional Airport. As required by title 14, Code of Federal Regulations, part 150 (hereinafter referred to as part 150), the NCP Update will be approved or disapproved on or before November 22, 2023. This notice also announces the availability of this NCP Update for public review and comment for 60 days from the publication date of this notice.

Under the Aviation Safety and Noise Abatement Act (49 U.S.C. 47501 et seq.), an airport operator (hereinafter referred to as Sponsor) who has submitted NEMs that are found by the FAA to be in compliance with the requirements of part 150 may submit for FAA approval a NCP or NCP Update that sets forth the measures the Sponsor has taken, or proposes to take, to reduce existing noncompatible uses and prevent the introduction of additional noncompatible uses within the area covered by the NEMs. The FAA has formally received the NCP Update for the Westfield-Barnes Regional Airport effective on May 26, 2023. The City of Westfield, Massachusetts, through its Aviation Department, requested the FAA review this material and that the noise mitigation measures, to be implemented jointly by the Sponsor and surrounding communities, be approved as NCP Update under the Act. Preliminary review of the submitted material indicates that it conforms to part 150 requirements for the submittal of an NCP, but that further review is necessary prior to approval or disapproval of the NCP Update. The formal review period, limited by law to a maximum of 180 days, will be completed on or before November 22, 2023.

A public information meeting on the NCP Update was held by the Sponsor on March 16, 2022, and a public hearing was held on February 1, 2023. The FAA's detailed evaluation will be conducted under the provisions of part 150, § 105.33. The primary considerations in the evaluation process are whether the proposed measures may reduce the level of aviation safety or create an undue burden on interstate or foreign commerce, and whether they are reasonably consistent with obtaining the goal of reducing existing noncompatible land uses and preventing the introduction of additional noncompatible land uses.

Each airport NCP/NCP Update developed in accordance with part 150 is a local program, not a Federal program. The FAA does not substitute its judgment for that of the Sponsor with respect to which measures should be recommended for action. The FAA's approval or disapproval of each specific measure proposed by a Sponsor in an NCP/NCP Update is determined by applying approval criteria prescribed in § 150.35(b) of part 150. Only measures that meet the approval criteria can be approved and considered for Federal funding eligibility. FAA approval or disapproval of a measure only indicates whether that measure would, if implemented, be consistent with the purposes of part 150. When a measure is disapproved by the FAA, Sponsors are encouraged to work with their communities and the FAA, outside of the part 150 process as necessary, to implement initiatives that provide noise benefits for the surrounding community.

Interested persons are invited to comment on the proposed NCP Update with specific reference to these factors. To maximize the effectiveness of comments and the FAA's understanding of them, comments should be as specific as possible, identifying the concern(s) as well as suggested or desired resolution to the concern(s). When possible, quote text and cite details such as page and section numbers, NCP Update measure number, etc. to which the comment(s) pertain. This commenting procedure is intended to ensure that substantive comments and concerns are made available to the FAA in a timely manner so that the FAA has an opportunity to address them in its Record of Approval. All comments in their entirety become part of the public record, including any personal information provided in the comment including name, address, phone number, etc. All relevant comments, other than those properly addressed to local land use authorities, will be considered by the FAA to the extent practicable.

Copies of the proposed NCP Update are available for examination online at: www.barnesairport.com and hard copy is available at Westfield-Barnes Regional Airport, 110 Airport Road, Suite 207, Westfield, MA 01085.

Please direct questions or requests to arrange an appointment to review the NCP Update document to the individual named above under the heading, FOR FURTHER INFORMATION CONTACT.

Issued in New England Regional Office, Burlington, MA, on July 6, 2023.
Julie Seltsam-Wilps,
Deputy Director, ANE-600.

[FR Doc. 2023-14653 Filed 7-10-23; 8:45 am]

BILLING CODE P